DEPARTMENT OF HEALTH AND HUMAN SERVICES

[Document Identifier: OS-0990-0313]

Agency Information Collection Request; 30-Day Public Comment Request

AGENCY: Office of the Secretary, Health and Human Services (HHS).

ACTION: Notice.

SUMMARY: In compliance with the requirement of the Paperwork Reduction Act of 1995, the Office of the Secretary (OS), Department of Health and Human Services, is publishing the following summary of a proposed collection for public comment.

DATES: Comments on the ICR must be received on or before October 18, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0313-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: 2021 National Blood Collection & Utilization Survey.

Type of Collection: Revision.

OMB No. 0990-0313: Office of the Assistant Secretary for Health.

Abstract: The 2021 National Blood Collection and Utilization Survey is a biennial survey of the blood collection and utilization community to produce reliable and accurate estimates of national and regional collections, utilization and safety of all blood products. The survey includes a core of standard questions on blood collection, processing, and utilization practices. The rapidly changing environment in blood supply and demand makes it important to have regular, periodic data describing the state of U.S. blood collections and transfusions for understanding the dynamics of blood safety and availability. Two sections were added to the survey to capture information on the impact of the COVID-19 pandemic on the blood supply during the course of 2020. The COVID-19 supplemental sections will only be included on the survey once.

Survey respondents will consist of blood collection centers, cord blood banks, and hospitals that perform blood transfusions, except those reporting fewer than 100 inpatient surgeries per year. For the purposes of this ICR, federal burden is only being placed on facilities located within the fifty states and the District of Columbia.

OMB approval is requested for three years. The total estimated annual burden is 4,532 hours.

Estimated Annualized Burden Table
Type of respondent | Number of respondents | Number responses per respondent | Average burden per response (in hours) | Total burden hours
Transfusing Hospitals | 2,140 | 1 | 2 | 4,280
Hospital Blood Banks | 76 | 1 | 2 | 152
Community-based blood center | 50 | 1 | 2 | 100
Total | 2,266 |  |  | 4,532

Sherrette A. Funn,
Paperwork Reduction Act Reports Clearance Officer, Office of the Secretary.

[FR Doc. 2021-20183 Filed 9-16-21; 8:45 am]

BILLING CODE 4150-41-P